BROADCASTING BOARD OF GOVERNORS

Sunshine Act Meeting

DATE AND TIME: Friday, June 20, 2014, 9:00 a.m.-1:00 p.m. e.d.t.

PLACE: Office of Cuba Broadcasting, 4201 NW. 77th Ave., Miami, FL 33166.

SUBJECT: Notice of Meeting of the Broadcasting Board of Governors.

SUMMARY: The Broadcasting Board of Governors (BBG) will be meeting at the time and location listed above. The Board will vote on a consent agenda consisting of the minutes of the April 11, 2014 meeting and a resolution honoring a former member for her service on the Board. The Board will also discuss and consider a resolution on Radio Free Europe/Radio Liberty's Balkan Service. The BBG will receive a presentation providing an overview of the Office of Cuba Broadcasting and convene a panel to discuss the challenges and road to a Latin America democracy.

This meeting will be available for public observation via streamed webcast, both live and on-demand, on the BBG's public Web site at www.bbg.gov. Information regarding this meeting, including any updates or adjustments to its starting time, can also be found on the Agency's public Web site.

The public may also attend this meeting in person at the address listed above as seating capacity permits. Member of the public seeking to attend the meeting in person must register at http://bbgboardmeetingjune2014.eventbrite.com by 12:00 p.m. (e.s.t.) on June 19. For more information regarding viewing the meeting online or attending it in person, please contact BBG Public Affairs at (202) 203-4400 or by email at pubaff@bbg.gov.

CONTACT PERSON FOR MORE INFORMATION: Persons interested in obtaining more information should contact Oanh Tran at (202) 203-4545.

Oanh Tran,
Director of Board Operations.

[FR Doc. 2014-14067 Filed 6-11-14; 4:15 pm]

BILLING CODE 8610-01-P